ENVIRONMENTAL PROTECTION AGENCY

[OPPTS-00323; FRL-6800-1]

Characterizing and Presenting Summary Chemical Exposure Assessment Results; Notice of a Workshop

AGENCY: Environmental Protection Agency (EPA).

ACTION: Notice.

SUMMARY: EPA will convene a workshop to obtain the individual opinions of technical experts and interested stakeholders on suggested summaries for presenting exposure assessment results. The workshop will be of interest to companies and consortia who have signed up for the Voluntary Children's Chemical Evaluation Program (VCCEP) as well as to those who may want to voluntarily present exposure assessment results. A short overview of the VCCEP will be given at the beginning of the workshop but the emphasis will be on describing and presenting exposure assessment results. There will be a roundtable discussion by invited participants followed by an opportunity for public comment. Following the workshop, EPA will take the information received into consideration in revising the summaries for presenting exposure assessment results and make the revised summaries available to the public. EPA is planning a subsequent workshop to discuss methodologies for conducting exposure assessments.

DATES: The workshop will commence at 10 a.m. on Tuesday, September 25, 2001, and end at 4 p.m. on Wednesday, September 26, 2001.

ADDRESSES: The workshop will be held at the Holiday Inn - National Airport, 2650 Jefferson Davis Highway, U.S. Rte. #1, Arlington, VA, (703) 684-7200.

FOR FURTHER INFORMATION CONTACT: For technical information related to the Workshop for Presenting Chemical Exposure Assessment Results contact: Patrick Kennedy, Economics, Exposure and Technology Division (7406), Office of Pollution Prevention and Toxics, Environmental Protection Agency, 1200 Pennsylvania Avenue NW, Washington, DC 20460; telephone number: (202) 260-3916; e-mail: kennedy.patrick@epa.gov. Questions regarding registration and logistics should be directed to EPA's contractor, ERG, at (781) 674-7374.

You may obtain electronic copies of this document and related documents from the EPA Internet site at http://www.epa.gov/opptintr/chemrtk. Draft guidance for exposure summaries and examples are also available at this EPA internet site. You may access the Federal Register documents directly at http://www.epa.gov/fedrgstr.

SUPPLEMENTARY INFORMATION:

I. Does this Notice Apply to Me?

This action is directed to the public in general. This action may, however, be of interest to those chemical manufacturers, importers, and processors who produce or use chemical substances that are covered by the Toxic Substances Control Act (TSCA), individuals or groups concerned with chemical testing and children's health, and animal welfare groups. Since other entities may also be interested, the Agency has not attempted to describe all the specific entities that may be affected by this action. If you have any questions regarding the applicability of this action to a particular entity, consult the technical person listed under FOR FURTHER INFORMATION CONTACT.

II. Purpose of the Meeting

The purpose of this workshop is to obtain the individual opinions of technical experts and interested stakeholders on suggested summaries for presenting exposure assessment results. To facilitate the discussion at the workshop, EPA will be introducing suggested summary sheets that could be used to present exposure assessment results and associated descriptions for the information in the summaries. In addition, examples, including those provided by industry, will be made available and discussed at the workshop to illustrate the principles of consistency, transparency, completeness, and quality in presenting exposure assessment results. The draft summaries and examples will be made available via the EPA Internet Site at http://www.epa.gov/opptintr/chemrtk.

To enable the discussion, EPA has invited technical experts from industry, non-governmental organizations, and government agencies, including EPA, to discuss the exposure assessment summary documents in a roundtable format. The invited participants were selected to provide a balanced representation of stakeholder interests. Presentation of the suggested summaries and examples for presenting exposure assessment results will be made by EPA and other invited participants and roundtable discussion by invited participants will follow. Opportunity for public comment from anyone who wishes to provide oral remarks will be provided at the conclusion of the roundtable discussion. Oral comments from the public may be limited to 5 minutes per individual to allow all those who wish to comment the opportunity to speak. Written comments may also be submitted to EPA via fax transmission to ERG at (781) 674-2906 until one week prior to the meeting.

The exposure summaries can be used as a road map or index for organizing and presenting exposure information. Information that is provided will vary from one chemical to the next. Other considerations, including hazard data for a particular chemical, may motivate submitters of exposure information to provide additional data elements and omit information on elements suggested on the summary sheets. EPA is planning a subsequent workshop to discuss methodologies for conducting exposure assessment studies. This workshop is planned for November or December 2001; details will be posted on the EPA internet site at http://www.epa.gov/opptintr/chemrtk. EPA is not asking participants in the workshop to reach agreement or provide any collective recommendations on the summaries for presenting exposure assessment results. EPA's intent is to obtain technical information and the individual perspective of invited participants based upon their unique backgrounds and experiences. Accordingly, EPA does not intend to organize this workshop as an advisory committee as defined in the Federal Advisory Committee Act, 5 U.S.C. App.

There is no charge for attending this workshop. EPA has contracted with Eastern Research Group, Inc., (ERG), 110 Hartwell Avenue, Lexington, Massachusetts, 02421, to provide registration and logistical support. To ensure that all interested parties can be accommodated, please preregister by calling ERG's conference registration line at (781) 674-7374 or fax a registration request to (781) 674-2906. You may also send an e-mail registration request to ERG at meetings@erg.com. Upon registration, you will be sent an agenda and a logistical fact sheet.

List of Subjects

Environmental protection Pesticides and Toxics.

Dated: September 4, 2001.
William H. Sanders III,
Director, Office of Pollution Prevention and Toxics.

[FR Doc. 01-23091 Filed 9-14-01; 8:45 am]

BILLING CODE 6560-50-S